DEPARTMENT OF DEFENSE

GENERAL SERVICES ADMINISTRATION

NATIONAL AERONAUTICS AND SPACE ADMINISTRATION

48 CFR Parts 1, 2, 3, 4, 5, 6, 8, 9, 10, 12, 13, 15, 16, 17, 19, 22, 23, 25, 26, 30, 32, 36, 42, 50, and 52

[FAR Case 2024-001, Docket No. FAR-2024-0001, Sequence No. 1]

RIN 9000-AO73

Federal Acquisition Regulation: Inflation Adjustment of Acquisition-Related Thresholds

AGENCY: Department of Defense (DoD), General Services Administration (GSA), and National Aeronautics and Space Administration (NASA).

ACTION: Proposed rule.

SUMMARY: DoD, GSA, and NASA are proposing to amend the Federal Acquisition Regulation (FAR) to further implement the statute, which requires an adjustment every five years of statutory acquisition-related thresholds for inflation. The adjustment uses the Consumer Price Index for all urban consumers and does not apply to the Construction Wage Rate Requirements statute (Davis-Bacon Act), Service Contract Labor Standards statute, performance and payment bonds, and trade agreements thresholds. DoD, GSA, and NASA are also proposing to use the same methodology to adjust nonstatutory FAR acquisition-related thresholds in 2025.

DATES: Interested parties should submit written comments to the Regulatory Secretariat Division at the address shown below on or before January 28, 2025 to be considered in the formation of the final rule.

ADDRESSES: Submit comments in response to FAR case 2024-001 to Federal eRulemaking portal at https://www.regulations.gov by searching for “FAR Case 2024-001”. Select the link “Comment Now” that corresponds with “FAR Case 2024-001”. Follow the instructions provided on the “Comment Now” screen. Please include your name, company name (if any), and “FAR Case 2024-001” on your attached document. If your comment cannot be submitted using https://www.regulations.gov, call or email the points of contact in the FOR FURTHER INFORMATION CONTACT section of this document for alternate instructions.

Instructions: Please submit comments only and cite “FAR Case 2024-001” in all correspondence related to this case. Comments received generally will be posted without change to https://www.regulations.gov, including any personal and/or business confidential information provided. Public comments may be submitted as an individual, as an organization, or anonymously (see frequently asked questions at https://www.regulations.gov/faq). To confirm receipt of your comment(s), please check https://www.regulations.gov, approximately two to three days after submission to verify posting.

FOR FURTHER INFORMATION CONTACT: For clarification of content, contact Mr. Michael O. Jackson, Procurement Analyst, at 202-821-9776 or by email at michaelo.jackson@gsa.gov. For information pertaining to status, publication schedules, or alternate instructions for submitting comments if https://www.regulations.gov cannot be used, contact the Regulatory Secretariat Division at 202-501-4755 or GSARegSec@gsa.gov. Please cite FAR Case 2024-001.

SUPPLEMENTARY INFORMATION:

I. Background

This rule proposes to amend multiple FAR parts to further implement 41 U.S.C. 1908. Section 1908 requires an adjustment every five years (on October 1 of each year evenly divisible by five) of statutory acquisition-related thresholds for inflation, using the Consumer Price Index (CPI) for all urban consumers, except for the Construction Wage Rate Requirements statute (Davis-Bacon Act), Service Contract Labor Standards statute, performance and payment bonds, and trade agreements thresholds (see FAR 1.109). As a matter of policy, DoD, GSA, and NASA are also proposing to use the same methodology to adjust nonstatutory FAR acquisition-related thresholds on October 1, 2025.

This is the fifth review of FAR acquisition-related thresholds since the statute was passed on October 28, 2004 (section 807 of the Ronald W. Reagan National Defense Authorization Act for Fiscal Year 2005). The last review was conducted under FAR Case 2019-013 during fiscal year (FY) 2020. The final rule under that case was published in the Federal Register on October 2, 2020 (85 FR 62485), effective October 1, 2020.

II. Discussion and Analysis

A. What is an acquisition-related threshold?

This case builds on the review of FAR thresholds in FY 2005, FY 2010, FY 2015, and FY 2020, using the same interpretation of an acquisition-related threshold. 41 U.S.C. 1908 is applicable to “a dollar threshold that is specified in law as a factor in defining the scope of the applicability of a policy, procedure, requirement, or restriction provided in that law to the procurement of property or services by an executive agency, as the Federal Acquisition Regulatory Council (the Council) determines.”

There are other thresholds in the FAR that, while not specified in law, nevertheless meet all the other criteria. These thresholds may have their origin in Executive order or regulation. Therefore, the Council has determined that in this case “acquisition-related threshold” has a broader meaning, i.e., a threshold that is specified in law, Executive order, or regulation as a factor in defining the scope of the applicability of a policy, procedure, requirement, or restriction provided in that law, Executive order, or regulation to the procurement of property or services by an Executive agency. DoD, GSA, and NASA conclude that acquisition-related thresholds are generally tied to the value of a contract, subcontract, or modification.

This rule does not address thresholds that are not acquisition-related. Examples of thresholds that are not “acquisition-related,” as defined in this proposed rule, include thresholds relating to claims, penalties, withholding, payments, required levels of insurance, small business size standards, liquidated damages, and protests.

B. What acquisition-related thresholds are not subject to escalation adjustment under this case?

41 U.S.C. 1908 does not permit escalation of acquisition-related thresholds established by the Construction Wage Rate Requirements statute (Davis Bacon Act), the Service Contract Labor Standards statute, performance and payment bonds (formerly the Miller Act), or the United States Trade Representative pursuant to the authority of the Trade Agreements Act of 1979.

Also, the statute does not authorize the FAR to escalate thresholds originating in Executive order or the implementing agency (such as the Department of Labor or the Small Business Administration), unless the Executive order or agency regulations are first amended.

C. How do the Defense Acquisition Regulations Council and the Civilian Agency Acquisition Council (the Councils) analyze a statutory acquisition-related threshold?

If an acquisition-related threshold is based on statute, the matrix at https://www.regulations.gov identifies the statute and the statutory threshold, including the original threshold and any FAR revisions.

With the exception of thresholds set by the Construction Wage Rate Requirements statute (Davis-Bacon Act), Service Contract Labor Standards statute, performance and payment bonds (formerly the Miller Act), and the United States Trade Representative pursuant to the authority of the Trade Agreements Act of 1979, 41 U.S.C. 1908 requires that the Councils adjust the acquisition-related thresholds for inflation using the CPI for all urban consumers. Acquisition-related thresholds in statutes that were in effect on October 1, 2000, are only subject to escalation from that date forward. For purposes of this proposed rule, the matrix includes calculation of escalation based on the estimated CPI value for March 2025 (currently projected at 323.193) divided by the CPI for the date of enactment of the statute or regulation (October 2000, for statutes enacted prior to October 1, 2000). The Councils will subsequently adjust as necessary before issuance of the final rule.

Once the escalation factor is applied to the acquisition-related threshold, then the threshold must be rounded as follows:

<$10,000 | Nearest $500.
$10,000-<$100,000 | Nearest $5,000.
$100,000-<$1 million | Nearest $50,000.
$1 million-<$10 million | Nearest $500,000.
$10 million-<$100 million | Nearest $5 million.
$100 million-<$1 billion | Nearest $50 million.
$1 billion or more | Nearest $500 million.

The calculations in this proposed rule are all based on the base year amount, because escalated amounts in the 2020 rule were subject to rounding. Therefore, using those amounts as the base would distort future calculations.

In 2020, some thresholds, although subject to inflation calculation, did not actually change, because the inflation in 2020 was insufficient to overcome the rounding requirements—i.e., the escalation factor when applied did not cause the escalated values to be high enough to round to the next higher value. However, in FY 2025 many thresholds that did not escalate in 2020 have increased through other statutory actions or will now escalate because of five additional years of inflation. Likewise, some thresholds that were escalated in 2020 will not escalate in 2025.

The thresholds for defining a major system differ for the civilian agencies and DoD. The FAR will continue to escalate the major systems threshold for the civilian agencies; however, DoD has determined that for DoD the major systems thresholds in the FAR must be consistent with the major systems thresholds in DoD Instruction 5000.85, Major Capability Acquisition, established in accordance with the authority in 10 U.S.C. 3041. For the purposes of this rule, the thresholds are unchanged.

This proposed rule has been coordinated with the Department of Labor and the Small Business Administration in areas of the regulation for which they are the lead agency.

D. How do the Councils analyze a nonstatutory acquisition-related threshold?

No statutory authorization is required to escalate thresholds that are policy-based within the FAR. For consistency, escalation of the FAR policy-based acquisition-related thresholds is recommended using the same formula applied to the statutory thresholds, unless there is a valid reason for not doing so.

E. What is the effect of this proposed rule on the most heavily-used thresholds?

This rule includes the following proposed changes to heavily-used thresholds. All these inflation increases assume that the current rate of inflation continues.

• The micro-purchase threshold at FAR 2.101 will increase from $10,000 to $15,000. Paragraphs (3)(i) and (ii) of the definition, for acquisitions to support contingency operations or to facilitate defense against certain attacks, are proposed to increase from $20,000 to $25,000 and from $35,000 to $40,000, respectively. Paragraph (4)(i), for acquisitions from institutions of higher education, nonprofit entities, or nonprofit and independent research activities, is proposed to increase from $10,000 to $15,000.

• The simplified acquisition threshold will increase from $250,000 to $350,000. Paragraphs (1)(i) and (ii) of the definition, for acquisitions to support contingency operations or to facilitate defense against certain attacks, are proposed to increase from $800,000 to $1 million and from $1.5 million to $2 million, respectively. Paragraph (2) of the definition, for acquisitions to support humanitarian or peacekeeping operations, is proposed to increase from $500,000 to $650,000.

• The threshold for reporting first-tier subcontract information including executive compensation (FAR subpart 4.14) will increase from $30,000 to $40,000.

• The preaward and postaward notices (FAR part 5) remain at $25,000 because of trade agreements.

• The threshold requirement for limiting competition (FAR part 6) to eligible 8(a) awards over $25 million is increased to $30 million.

• Approval thresholds of justifications for other than full and open competition (FAR 6.304) will increase from $750,000 to $950,000. Paragraphs (a)(3) and (4) will increase from $15 million to $20 million and from $75 million to $95 million, respectively. The $100 million threshold applicable to DoD, NASA, and the Coast Guard will increase to $150 million.

• The ceiling for using simplified procedures for certain commercial products and commercial services (FAR 13.500) will increase from $7.5 million to $9.5 million. For acquisitions described at FAR 13.500(c), the ceiling will increase from $15 million to $20 million.

• The cost or pricing data threshold (FAR 15.403-4) will increase from $2 million to $2.5 million.

• The threshold for justifications of single-award indefinite-delivery contracts (FAR 16.504(c)(1)(ii)(D)(1)) will increase from $100 million to $150 million.

• The prime contractor subcontracting plan (FAR 19.702) floor will increase from $750,000 to $950,000. The construction threshold will increase from $1.5 million to $2 million.

This proposed rule is based on a projected CPI of 323.193 for March 2025. If the actual CPI for March 2025 is higher than 323.193, then additional statutory thresholds may be subject to escalation in the final rule, even though not included in the proposed rule.

III. Applicability to Contracts at or Below the Simplified Acquisition Threshold (SAT) and for Commercial Products (Including Commercially Available Off-the-Shelf (COTS) Items) or for Commercial Services

This proposed rule does not create any new provisions or clauses, nor does it change the applicability of any existing provisions or clauses included in solicitations and contracts valued at or below the SAT, or for commercial products, including COTS items, or for commercial services.

IV. Expected Impact of the Rule

The proposed rule is not expected to have a significant impact on the public or the Government because the rule is intended to maintain the status quo by adjusting acquisition-related thresholds for inflation. The escalation of statutory acquisition-related thresholds is mandated by 41 U.S.C. 1908, including how to calculate the escalation. The impact on heavily-used FAR thresholds is described in Section II.E. of this preamble.

The most impactful threshold escalations will likely be associated with the proposed increases to the micro-purchase threshold (MPT) and SAT. According to data from the Federal Procurement Data System (FPDS), the average number of Federal awards valued at or below the current MPT ($10,000) during FY 2022 through FY 2024 was approximately 562,324. Those actions were awarded to approximately 18,440 unique entities. For the same period, FPDS data indicates that between the current MPT and the proposed threshold value of $15,000, another 49,321 awards were made to approximately 13,788 unique entities. While it is unclear how much duplication there is between the unique entities for each data point, the data illustrates an approximate 9 percent increase in the number of actions that would be considered under the MPT.

For actions above the current MPT but valued at or below the current SAT ($250,000), FPDS data for the same period indicates that an average of 235,020 contract actions were awarded to approximately 48,686 unique entities. According to FPDS data between the current SAT and the proposed threshold value of $350,000, another 5,150 (2 percent) contract actions could be awarded to approximately 3,580 entities using the flexibilities afforded to contracts at or below the SAT.

While not significant in number or percentage, the data appears to illustrate slight decreases in the number of contract actions that were valued at or under the MPT for each of the reported fiscal years. However, the number of contract actions having a value between the MPT and the SAT have increased slightly. DoD, GSA, and NASA assume that these changes, however insignificant, illustrate that the value of Federal procurements have increased, resulting in more regulatory burden on offerors and contractors.

DoD, GSA, and NASA expect this proposed rule to provide the adjustments necessary to mitigate the impact of inflation on both the public and the Government as intended under 41 U.S.C. 1908. The rule does not change direction to contracting officers, nor does it change the applicability of any requirements for offerors and contractors.

V. Executive Orders 12866 and 13563

Executive Orders (E.O.s) 12866 (as amended by E.O. 14094) and 13563 direct agencies to assess the costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993.

VI. Regulatory Flexibility Act

DoD, GSA, and NASA do not expect this rule to have a significant economic impact on a substantial number of small entities within the meaning of the Regulatory Flexibility Act, 5 U.S.C. 601-612, because the rule maintains the status quo by adjusting thresholds for actual inflationary increases in the CPI. However, an Initial Regulatory Flexibility Analysis has been performed and is summarized as follows:

This proposed rule will amend the Federal Acquisition Regulation (FAR) to implement 41 U.S.C. 1908 and to amend other acquisition-related dollar thresholds that are based on policy rather than statute in order to adjust for the changing value of the dollar. 41 U.S.C. 1908 requires adjustment every 5 years of statutory acquisition-related dollar thresholds, except for Construction Wage Rate Requirements statute (Davis-Bacon Act), Service Contract Labor Standards statute, performance and payment bonds (formerly the Miller Act), and trade agreements thresholds. While reviewing all statutory acquisition-related thresholds, this case presented an opportunity to also review all nonstatutory acquisition-related thresholds in the FAR that are based on policy.

The objective of the rule is to maintain the status quo by adjusting acquisition-related thresholds for inflation. The legal basis is 41 U.S.C. 1908. The promulgation of the FAR is authorized by 40 U.S.C. 121(c); 10 U.S.C. chapter 4 and 10 U.S.C. chapter 137 legacy provisions (see 10 U.S.C. 3016); and 51 U.S.C. 20113.

This rule will have a minimal impact on small entities that submit offers or are awarded contracts by the Federal Government. However, most of the threshold changes proposed in this rule are not expected to have any significant economic impact on small entities because the threshold changes are intended to maintain the status quo by adjusting for changes in the value of the dollar. Often any impact will be beneficial, by preventing burdensome requirements from applying to more and more acquisitions, as the dollar loses value.

According to the System for Award Management (SAM), as of December 2023, there were 361,685 entities registered as small businesses under any North American Industry Classification System code. This rule assumes that any of the 361,685 small entities registered in SAM may experience some benefit from a reduction in burden as a result of this proposed rule.

The rule does not impose any new reporting, recordkeeping, or compliance requirements. Changes in thresholds for approved information collection requirements are intended to maintain the status quo and prevent those requirements from increasing over time.

The rule does not duplicate, overlap, or conflict with any other Federal rules.

There are no practical alternatives that will accomplish the objectives of the statute.

The Regulatory Secretariat Division has submitted a copy of the IRFA to the Chief Counsel for Advocacy of the Small Business Administration. A copy of the IRFA may be obtained from the Regulatory Secretariat Division. DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C. 610 (FAR Case 2024-001), in correspondence.

VII. Paperwork Reduction Act

The Paperwork Reduction Act does apply. The proposed changes to the FAR do not impose new information collection requirements that require the approval of the Office of Management and Budget (OMB) under 44 U.S.C. 3501, et seq. By adjusting the thresholds for inflation, the status quo for the current information collection requirements is maintained under the following OMB clearance numbers: 9000-0007, 1250-0004, and 1293-0005.

List of Subjects in 48 CFR Parts 1, 2, 3, 4, 5, 6, 8, 9, 10, 12, 13, 15, 16, 17, 19, 22, 23, 25, 26, 30, 32, 36, 42, 50, and 52

Government Procurement.

William F. Clark,
Director, Office of Government-wide Acquisition Policy, Office of Acquisition Policy, Office of Government-wide Policy.

Therefore, DoD, GSA, and NASA propose amending 48 CFR parts 1, 2, 3, 4, 5, 6, 8, 9, 10, 12, 13, 15, 16, 17, 19, 22, 23, 25, 26, 30, 32, 36, 42, 50, and 52 as set forth below:

1. The authority citation for 48 CFR parts 1, 2, 3, 4, 5, 6, 8, 9, 10, 12, 13, 15, 16, 17, 19, 22, 23, 25, 26, 30, 32, 36, 42, 50, and 52 continues to read as follows:

Authority: 40 U.S.C. 121(c); 10 U.S.C. chapter 4 and 10 U.S.C. chapter 137 legacy provisions (see 10 U.S.C. 3016); and 51 U.S.C. 20113.

PART 1—FEDERAL ACQUISITION REGULATIONS SYSTEM

1.109 [Amended]

2. Amend section 1.109, in paragraph (e) by removing “2019-013” and adding “2024-001” in its place.

PART 2—DEFINITIONS OF WORDS AND TERMS

2.101 [Amended]

3. Amend section 2.101, by—

a. In the definition “Major system”, removing from paragraph (2) “$ 2.5 million” and adding “$3 million” in its place;

b. In the definition “Micro-purchase threshold”:

i. Removing from the introductory text “$10,000” and adding “$15,000” in its place;

ii. Removing from paragraph (3)(i) “$20,000” and adding “$25,000” in its place;

iii. Removing from paragraph (3)(ii) “$35,000” and adding “$40,000” in its place;

iv. Removing from paragraph (4)(i) “$10,000” and adding “$15,000” in its place;

c. In the definition “Simplified acquisition threshold”:

i. Removing from the introductory text “$250,000” and adding “$350,000” in its place;

ii. Removing from paragraph (1)(i) “$800,000” and adding “$1 million” in its place;

iii. Removing from paragraph (1)(ii) “$1.5 million” and adding “$2 million” in its place; and

iv. Removing from paragraph (2) “(10 U.S.C. 3015), the term means $500,000” and adding “(10 U.S.C. 3015), the term means $650,000” in its place.

PART 3—IMPROPER BUSINESS PRACTICES AND PERSONAL CONFLICTS OF INTEREST

3.502-2 [Amended]

4. Amend section 3.502-2 in paragraph (i) introductory text by removing “$150,000” and adding “$200,000” in its place.

3.502-3 [Amended]

5. Amend section 3.502-3 by removing “$150,000” and adding “$200,000” in its place.

3.804 [Amended]

6. Amend section 3.804 by removing “$150,000” and adding “$200,000” in its place.

3.808 [Amended]

7. Amend section 3.808 in paragraphs (a) and (b) by removing “$150,000” and adding “$200,000” in their places, respectively.

3.1004 [Amended]

8. Amend section 3.1004 in paragraphs (a), (b)(1)(i), and (b)(3) by removing “$6 million” and adding “$7.5 million” in their places, respectively.

PART 4—ADMINISTRATIVE AND INFORMATION MATTERS

4.605 [Amended]

9. Amend section 4.605 in paragraphs (c)(2)(i) introductory text and (c)(2)(ii) by removing “$30,000” and adding “$40,000” in their places, respectively.

4.1102 [Amended]

10. Amend section 4.1102 in paragraph (a)(6) by removing “$30,000” and adding “$40,000” in its place.

4.1401 [Amended]

11. Amend section 4.1401 in paragraph (a) by removing “$30,000” and adding “$40,000” in its place.

4.1403 [Amended]

12. Amend section 4.1403 in paragraph (a) by removing “$30,000” and adding “$40,000” in its place.

PART 5—PUBLICIZING CONTRACT ACTIONS

5.101 [Amended]

13. Amend section 5.101 in paragraph (a)(2) introductory text by removing “$15,000” and adding “$20,000” in its place.

5.205 [Amended]

14. Amend section 5.205 in paragraph (d)(2) by removing “$15,000” and adding “$20,000” in its place.

5.206 [Amended]

15. Amend section 5.206 in paragraph (a)(2) by removing “$15,000” and adding “$20,000” in its place.

5.303 [Amended]

16. Amend section 5.303 in paragraph (a) introductory text by removing “$4.5 million” and adding “$5.5 million” in its place.

PART 6—COMPETITION REQUIREMENTS

6.204 [Amended]

17. Amend section 6.204 in paragraph (b) by removing “$25 million” and adding “$30 million” in its place.

6.302-5 [Amended]

18. Amend section 6.302-5 in paragraphs (b)(4) and (c)(2)(iii) by removing “$25 million” and adding “$30 million” in their places, respectively.

6.303-1 [Amended]

19. Amend section 6.303-1 in paragraph (b) introductory text by removing “$25 million” and adding “$30 million” in its place.

6.303-2 [Amended]

20. Amend section 6.303-2 by removing from the introductory text of paragraphs (b) and (d) “$25 million” and adding “$30 million” in their places, respectively.

6.304 [Amended]

21. Amend section 6.304 by—

a. Removing from paragraph (a)(1) “$750,000” and adding “$950,000” in its place;

b. Removing from paragraph (a)(2) “$750,000” and “$15 million” and adding “$950,000” and “$20 million” in their places, respectively;

c. Removing from paragraph (a)(3) introductory text “$15 million”, “$75 million”, and “$100 million” and adding “$20 million”, “$95 million”, and “$150 million” in their places, respectively; and

d. Removing from paragraph (a)(4) “$75 million” and “$100 million” and adding “$95 million” and “$150 million” in their places, respectively.

6.502 [Amended]

22. Amend section 6.502 in paragraph (b)(2)(vii) by removing “$1,000,000” and adding “$1.5 million” in its place.

PART 8—REQUIRED SOURCES OF SUPPLIES AND SERVICES

8.404 [Amended]

23. Amend section 8.404 in paragraph (b)(2) by removing “$600,000” and adding “$750,000” in its place.

8.405-3 [Amended]

24. Amend section 8.405-3 by—

a. Removing from paragraph (a)(3)(ii) introductory text “$100 million” and adding “$150 million” in its place;

b. Removing from paragraph (a)(3)(iii) “$100 million” and adding “$150 million” in its place; and

c. Removing from paragraph (a)(7)(v) “$100 million” and adding “$150 million” in its place.

8.405-6 [Amended]

25. Amend section 8.405-6 by—

a. Removing from paragraph (d)(1) “$750,000” and adding “$950,000” in its place;

b. Removing from paragraph (d)(2) “$750,000” and “$15 million” and adding “$950,000” and “$20 million” in their places, respectively;

c. Removing from paragraph (d)(3) introductory text “$15 million”, “$75 million”, and “$100 million” and adding “$20 million”, “$95 million”, and “$150 million” in their places, respectively; and

d. Removing from paragraph (d)(4) “$75 million” and “$100 million” and adding “$95 million” and “$150 million” in their places, respectively.

PART 9—CONTRACTOR QUALIFICATIONS

9.104-5 [Amended]

26. Amend section 9.104-5 by—

a. Removing from paragraph (a)(2) “$10,000” and adding “$15,000” in its place; and

b. Removing from paragraph (c) “$5.5 million” and adding “$7 million” in its place.

9.104-7 [Amended]

27. Amend section 9.104-7 by—

a. Removing from paragraphs (b) and (c)(1) “$600,000” and adding “$750,000” in their places, respectively; and

b. Removing from paragraph (e) “$5.5 million” and adding “$7 million” in its place.

9.405-2 [Amended]

28. Amend section 9.405-2 in paragraph (b) introductory text by removing “$35,000” wherever it appears and adding “$45,000” in their places, respectively.

9.409 [Amended]

29. Amend section 9.409 by removing “$35,000” and adding “$45,000” in its place.

PART 10—MARKET RESEARCH

10.001 [Amended]

30. Amend section 10.001 in paragraph (d) by removing “$6 million” and adding “$7.5 million” in its place.

10.003 [Amended]

31. Amend section 10.003 by removing “$6 million” and adding “$7.5 million” in its place.

PART 12—ACQUISITION OF COMMERCIAL PRODUCTS AND COMMERCIAL SERVICES

12.102 [Amended]

32. Amend section 12.102 in paragraph (f)(2) introductory text by removing “$20 million” and adding “$25 million” in its place.

12.203 [Amended]

33. Amend section 12.203 in paragraph (a) by removing “$7.5 million ($15 million” and adding “$9.5 million ($20 million” in its place.

PART 13—SIMPLIFIED ACQUISITION PROCEDURES

13.000 [Amended]

34. Amend section 13.000 by removing “$7.5 million ($15 million” and adding “$9.5 million ($20 million” in its place.

13.003 [Amended]

35. Amend section 13.003 by removing from paragraphs (c)(1)(ii) and (g)(2) “$7.5 million ($15 million” and adding “$9.5 million ($20 million” in their places, respectively.

13.201 [Amended]

36. Amend section 13.201 in paragraph (g)(1) by—

a. Removing from paragraph (i) “$20,000” and adding “$25,000” in its place; and

b. Removing from paragraph (ii) “$35,000” and adding “$40,000” in its place.

13.303-5 [Amended]

37. Amend section 13.303-5 by—

a. Removing from paragraph (b)(1) “$7.5 million” and “$15 million” and adding “$9.5 million” and “$20 million” in their places, respectively; and

b. Removing from paragraph (b)(2) “commercial serviceacquisitions” and “$7.5 million ($15 million” and adding “commercial service acquisitions” and “$9.5 million ($20 million” in their places, respectively.

13.402 [Amended]

38. Amend section 13.402 in paragraph (a) by removing “$35,000” and adding “$45,000” in its place.

13.500 [Amended]

39. Amend section 13.500 by—

a. Removing from paragraph (a) “$7.5 million ($15 million” and adding “$9.5 million ($20 million” in its place; and

b. Removing from paragraph (c) introductory text “$15 million” and adding “$20 million” in its place.

13.501 [Amended]

40. Amend section 13.501 by—

a. Removing from paragraph (a)(2)(i) “$750,000” and adding “$950,000” in its place;

b. Removing from paragraph (a)(2)(ii) “$750,000” and “$15 million” and adding “$950,000” and “$20 million” in their places, respectively;

c. Removing from paragraph (a)(2)(iii) “$15 million”, “$75 million”, and “$100 million” and adding “$20 million”, “$95 million”, and “$150 million” in their places, respectively; and

d. Removing from paragraph (a)(2)(iv) “$75 million” and “$100 million” and adding “$95 million” and “$150 million” in their places, respectively.

PART 15—CONTRACTING BY NEGOTIATION

15.403-1 [Amended]

41. Amend section 15.403-1 in paragraph (c)(3)(iv) by removing “$20 million” and adding “$25 million” in its place.

15.403-4 [Amended]

42. Amend section 15.403-4 by removing from paragraphs (a)(1) introductory text and (a)(3) “$2 million” and adding “$2.5 million” in their places, respectively.

15.404-3 [Amended]

43. Amend section 15.404-3 in paragraph (c)(1)(i) by removing “$15 million” and adding “$20 million” in its place.

15.407-2 [Amended]

44. Amend section 15.407-2 by removing from paragraphs (c)(1) and (c)(2) introductory text “$15 million” and adding “$20 million” in their places, respectively.

15.408 [Amended]

45. Amend section 15.408, in Table 15-2, section II, paragraph A.(2) by removing “$15 million” and adding “$20 million” in its place.

PART 16—TYPES OF CONTRACTS

16.503 [Amended]

46. Amend section 16.503 by—

a. Removing from paragraph (b)(2) “$100 million” and adding “$150 million” in its place; and

b. Removing from paragraph (d) “$15 million” and adding “$20 million” in its place.

16.504 [Amended]

47. Amend section 16.504 by—

a. Removing from paragraphs (c)(1)(ii)(D)(1) introductory text and (D)(3) introductory text, “$100 million” and adding “$150 million” in their places, respectively; and

b. Removing from paragraph (c)(2)(i) introductory text “$15 million” and adding “$20 million” in its place.

16.505 [Amended]

48. Amend section 16.505 by—

a. Removing from paragraph (a)(4)(iii)(A) introductory text “$30,000” and adding “$40,000” in its place;

b. Removing from paragraph (b)(1)(iv) heading and introductory text “$6 million” and “$6 million” and adding “$7.5 million” and “$7.5 million” in their places, respectively;

c. Removing from paragraph (b)(2)(ii)(C)(1) “$750,000” and adding “$950,000” in its place;

d. Removing from paragraph (b)(2)(ii)(C)(2) “$750,000” and “$15 million” and adding “$950,000” and “$20 million” in their places, respectively;

e. Removing from paragraph (b)(2)(ii)(C)(3) introductory text “$15 million”, “$75 million, and “$100 million” and adding “$20 million”, “$95 million” and “$150 million” in their places, respectively;

f. Removing from paragraph (b)(2)(ii)(C)(4) “$75 million” and “$100 million” and adding “$95 million” and “$150 million” in their places, respectively; and

g. Removing from paragraph (b)(6) heading and introductory text “$6 million” and “$6 million” and adding “$7.5 million” and “$7.5 million” in their places, respectively.

16.506 [Amended]

49. Amend section 16.506 by—

a. Removing from paragraphs (f) and (g) “$15 million” and adding “$20 million” in their places, respectively; and

b. Removing from paragraph (h) “$6 million” and adding “$7.5 million” in its place.

PART 17—SPECIAL CONTRACTING METHODS

17.108 [Amended]

50. Amend section 17.108 by—

a. Removing from paragraph (a) “$15 million” and adding “$20 million” in its place; and

b. Removing from paragraph (b) “$150 million” and adding “$200 million” in its place.

17.500 [Amended]

51. Amend section 17.500 in paragraph (c)(2) by removing “$600,000” and adding “$750,000” in its place.

PART 19—SMALL BUSINESS PROGRAMS

19.702 [Amended]

52. Amend section 19.702 by removing from paragraphs (a)(1)(i) through (iii) “$750,000 ($1.5 million” and adding “$950,000 ($2 million” in their places, respectively.

19.704 [Amended]

53. Amend section 19.704 in paragraph (a)(9) by removing “$750,000 ($1.5 million” and adding “$950,000 ($2 million” in its place.

19.708 [Amended]

54. Amend section 19.708 in paragraph (b)(1) by removing “$750,000 ($1.5 million” and adding “$950,000 ($2 million” in its place.

19.804-6 [Amended]

55. Amend section 19.804-6 in paragraph (c)(2) by removing “$7 million” and “$4.5 million” and adding “$8.5 million” and “$5.5 million” in their places, respectively.

19.805-1 [Amended]

56. Amend section 19.805-1 in paragraph (a)(2) by removing “$7 million” and “$4.5 million” and adding “$8.5 million” and “$5.5 million” in their places, respectively.

19.808-1 [Amended]

57. Amend section 19.808-1 in paragraph (a) by removing “$25 million” and adding “$30 million” in its place.

19.1306 [Amended]

58. Amend section 19.1306 by—

a. Removing from paragraph (a)(2)(i) “$7 million” and adding “$8.5 million” in its place; and

b. Removing from paragraph (a)(2)(ii) “$4.5 million” and adding “$5.5 million” in its place.

19.1406 [Amended]

59. Amend section 19.1406 by—

a. Removing from paragraph (a)(2)(i) “$7 million” and adding “$8.5 million” in its place; and

b. Removing from paragraph (a)(2)(ii) “$4 million” and adding “$5.5 million” in its place.

19.1506 [Amended]

60. Amend section 19.1506 by—

a. Removing from paragraph (c)(1)(i) “$7 million” and adding “$8.5 million” in its place; and

b. Removing from paragraph (c)(1)(ii) “$4.5 million” and adding “$5.5 million” in its place.

PART 22—APPLICATION OF LABOR LAWS TO GOVERNMENT ACQUISITIONS

22.305 [Amended]

61. Amend section 22.305 in paragraph (a) by removing “$150,000” and adding “$200,000” in its place.

22.602 [Amended]

62. Amend section 22.602 by removing “$15,000” and adding “$20,000” in its place.

22.603 [Amended]

63. Amend section 22.603 in paragraph (b) by removing “$15,000” and adding “$20,000” in its place.

22.605 [Amended]

64. Amend section 22.605 by removing from paragraphs (a)(1), (a)(2), (a)(3), and (a)(5) “$15,000” wherever it appears and adding “$20,000” in their places, respectively.

22.1103 [Amended]

65. Amend section 22.1103 by removing “$750,000” and adding “$950,000” in its place.

22.1303 [Amended]

66. Amend section 22.1303 in paragraphs (a) and (c) by removing “$150,000” and adding “$200,000” in their places, respectively.

22.1310 [Amended]

67. Amend section 22.1310 in paragraph (a)(1) by removing “$150,000” and adding “$200,000” in its place.

22.1402 [Amended]

68. Amend section 22.1402 in paragraph (a) by removing “$15,000” and adding “$20,000” in its place.

22.1408 [Amended]

69. Amend section 22.1408 in paragraph (a) introductory text by removing “$15,000” and adding “$20,000” in its place.

22.1701 [Amended]

70. Amend section 22.1701 in paragraph (b)(2) by removing “$550,000” and adding “$700,000” in its place.

22.1703 [Amended]

71. Amend section 22.1703 by removing from paragraphs (c)(1)(i)(B) and (c)(3)(i)(B) “$550,000” and adding “$700,000” in their places, respectively.

22.1705 [Amended]

72. Amend section 22.1705 in paragraph (b)(1) by removing “$550,000” and adding “$700,000” in its place.

PART 23—ENVIRONMENT, SUSTAINABLE ACQUISITION, AND MATERIAL SAFETY

23.109 [Amended]

73. Amend section 23.109 in paragraph (b)(2) by removing “$150,000” and adding “$200,000” in its place.

PART 25—FOREIGN ACQUISITION

25.703-2 [Amended]

74. Amend section 25.703-2 in paragraph (a)(2) by removing “$10,000” and adding “$15,000” in its place.

PART 26—OTHER SOCIOECONOMIC PROGRAMS

26.404 [Amended]

75. Amend section 26.404 by removing “$30,000” and adding “$35,000” in its place.

PART 30—COST ACCOUNTING STANDARDS ADMINISTRATION

30.201-4 [Amended]

76. Amend section 30.201-4 in paragraph (b)(1) by removing “$2 million” and adding “$2.5 million” in its place.

PART 32—CONTRACT FINANCING

32.104 [Amended]

77. Amend section 32.104 by removing from paragraphs (d)(2)(i) and (ii) “$3 million” and adding “$3.5 million” in their places, respectively.

32.404 [Amended]

78. Amend section 32.404 in paragraph (a)(7)(i) by removing “$15,000” and adding “$20,000” in its place.

PART 36—CONSTRUCTION AND ARCHITECT-ENGINEER CONTRACTS

36.303-1 [Amended]

79. Amend section 36.303-1 in paragraph (a)(4) by removing “$4.5 million” and adding “$5.5 million” in its place.

36.501 [Amended]

80. Amend section 36.501 in paragraph (b) by removing “$1.5 million” wherever it appears and adding “$2 million” in their places, respectively.

PART 42—CONTRACT ADMINISTRATION AND AUDIT SERVICES

42.709-1 [Amended]

81. Amend section 42.709-1 in paragraph (b) by removing “$800,000” and adding “$1 million” in its place.

42.709-7 [Amended]

82. Amend section 42.709-7 by removing “$800,000” and adding “$1 million” in its place.

42.1502 [Amended]

83. Amend section 42.1502 by—

a. Removing from paragraph (e) “$750,000” wherever it appears and adding “$950,000” in their places, respectively; and

b. Removing from paragraph (f) “$35,000” wherever it appears and adding “$45,000” in their places, respectively.

PART 50—EXTRAORDINARY CONTRACTUAL ACTIONS AND THE SAFETY ACT

50.102-1 [Amended]

84. Amend section 50.102-1 in paragraph (b) by removing “$75,000” and adding “$95,000” in its place.

50.102-3 [Amended]

85. Amend section 50.102-3 by removing from paragraphs (e)(1)(i) and (ii) “$75,000” and adding “$95,000” in their places, respectively.

PART 52—SOLICITATION PROVISIONS AND CONTRACT CLAUSES

86. Amend section 52.204-8 by revising the date of the provision, and removing from paragraph (c)(1)(ii) “$150,000” and adding “$200,000” in its place.

The revision reads as follows:

52.204-8 Annual Representations and Certifications.

* * * * *

Annual Representations and Certifications (DATE)

* * * * *

87. Amend section 52.209-12 by revising the date of the provision, and removing from paragraph (b) introductory text “$5.5 million” and adding “$7 million” in its place.

The revision reads as follows:

52.209-12 Certification Regarding Tax Matters.

* * * * *

Certification Regarding Tax Matters (DATE)

* * * * *

88. Amend section 52.212-3 by revising the date of the provision, and removing from paragraph (e) “$150,000” and adding “$200,000” in its place.

The revision reads as follows:

52.212-3 Offeror Representations and Certifications—Commercial Products and Commercial Services.

* * * * *

Offeror Representations and Certifications—Commercial Products and Commercial Services (DATE)

* * * * *

89. Amend section 52.212-5 by—

a. Revising the date of the clause;

b. Removing from paragraphs (b)(39)(i) and (e)(1)(xvi)(A) “NOV 2021” and adding “DATE” in their places, respectively;

c. In Alternate II:

i. Revising the date of the alternate; and

ii. Removing from paragraph (e)(1)(ii)(O)(1) “NOV 2021” and adding “DATE” in its place.

The revision reads as follows:

52.212-5 Contract Terms and Conditions Required To Implement Statutes or Executive Orders—Commercial Products and Commercial Services.

* * * * *

Contract Terms and Conditions Required To Implement Statutes or Executive Orders—Commercial Products and Commercial Services (DATE)

* * * * *

Alternate II (DATE). * * *

* * * * *

90. Amend section 52.213-4 by—

a. Revising the date of the clause;

b. Removing from paragraph (a)(2)(vii) “NOV 2024” and adding “DATE” in its place; and

c. Removing from paragraph (b)(1)(ix)(A) “NOV 2021” and adding “DATE” in its place.

The revision reads as follows:

52.213-4 Terms and Conditions—Simplified Acquisitions (Other Than Commercial Products and Commercial Services).

* * * * *

Terms and Conditions—Simplified Acquisitions (Other Than Commercial Products and Commercial Services) (DATE)

* * * * *

91. In section 52.214-28, amend Alternate I by:

a. Revising the date of the alternate; and

b. Removing from paragraph (b)(2) “$2 million” wherever it appears and adding “$2.5 million” in their places, respectively.

The revision reads as follows:

52.214-28 Subcontractor Certified Cost or Pricing Data—Modifications—Sealed Bidding.

* * * * *

Alternate I (DATE) * * *

* * * * *

92. In section 52.215-12, amend Alternate I by:

a. Revising the date of the alternate; and

b. Removing from paragraph (a)(2) “$2 million” wherever it appears and adding “$2.5 million” in their places, respectively.

The revision reads as follows:

52.215-12 Subcontractor Certified Cost or Pricing Data.

* * * * *

Alternate I (DATE) * * *

* * * * *

93. In section 52.215-13, amend Alternate I by:

a. Revising the date of the alternate; and

b. Removing from paragraphs (b)(2) and (d) “$2 million” and adding “$2.5 million” in their places, respectively.

The revision reads as follows:

52. 215-13 Subcontractor Certified Cost or Pricing Data—Modifications.

* * * * *

Alternate I (DATE) * * *

* * * * *

94. Amend section 52.222-50 by revising the date of the clause, and removing from paragraphs (h)(1)(ii) and (i)(1)(ii) “$550,000” and adding “$700,000” in their places, respectively.

The revision reads as follows:

52.222-50 Combating Trafficking in Persons.

* * * * *

Combating Trafficking in Persons (DATE)

* * * * *

95. Amend section 52.222-56 by revising the date of the provision, and removing from paragraph (b)(2) “$550,000” and adding “$700,000” in its place.

The revision reads as follows:

52.222-56 Certification Regarding Trafficking in Persons Compliance Plan.

* * * * *

Certification Regarding Trafficking in Persons Compliance Plan (DATE)

* * * * *

96. Amend section 52.225-8 by revising the date of the clause, and removing from paragraphs (c)(1) introductory text and (j)(2) “$15,000” and adding “$20,000” in its place.

The revision reads as follows:

52.225-8 Duty-Free Entry.

* * * * *

Duty-Free Entry (DATE)

* * * * *

97. Amend section 52.244-6 by—

a. Revising the date of the clause; and

b. Removing from paragraph (c)(1)(xvii)(A) “NOV 2021” and adding “DATE” in its place.

The revision reads as follows:

52.244-6 Subcontracts for Commercial Products and Commercial Services.

* * * * *

Subcontracts for Commercial Products and Commercial Services (DATE)

* * * * *

98. Amend section 52.248-3 by revising the date of the clause, and removing from paragraph (h) “$75,000” and adding “$95,000” in its place.

The revision reads as follows:

52.248-3 Value Engineering—Construction.

* * * * *

Value Engineering—Construction (DATE)

* * * * *

[FR Doc. 2024-27851 Filed 11-27-24; 8:45 am]

BILLING CODE 6820-EP-P